DEPARTMENT OF LABOR

Employment and Training Administration

[TA-W-50,444]

Tyson Foods, Stilwell, OK; Notice of Termination of Investigation

Pursuant to section 221 of the Trade Act of 1974, as amended, an investigation was initiated on January 3, 2003 in response to a petition filed by a company official on behalf of workers at Tyson Foods, Stilwell, Oklahoma.

The petitioner has requested that the petition be withdrawn. Consequently, further investigation would serve no purpose, and the investigation has been terminated.

Signed at Washington, DC, this 21st day of March 2003.
Linda G. Poole,
Certifying Officer, Division of Trade Adjustment Assistance.

[FR Doc. 03-10742 Filed 4-30-03; 8:45 am]

BILLING CODE 4510-30-P